DEPARTMENT OF ENERGY

Federal Energy Regulatory Commission

Combined Notice of Filings #2

Take notice that the Commission received the following electric corporate filings:

Docket Numbers: EC15-210-000.

Applicants: Dominion Solar Projects A, Inc., Dominion Solar Projects I, Inc.

Description: Clarification to September 24, 2015 Application for Authorization Under Section 203 of the Federal Power Act of Dominion Solar Projects A, Inc., et al.

Filed Date: 10/30/15.

Accession Number: 20151030-5509.

Comments Due: 5 p.m. ET 11/13/15.

Take notice that the Commission received the following electric rate filings:

Docket Numbers: ER14-1210-005.

Applicants: Midcontinent Independent System Operator, Inc.

Description: Compliance filing: 2015-11-09_SA 6502 Edwards SSR 2014 Agreement Compliance to be effective 7/22/2014.

Filed Date: 11/9/15.

Accession Number: 20151109-5117.

Comments Due: 5 p.m. ET 11/30/15.

Docket Numbers: ER14-2605-002.

Applicants: Midcontinent Independent System Operator, Inc.

Description: Compliance filing: 2015-11-09_SSR ER14-2605 Compliance Filing to be effective 7/22/2014.

Filed Date: 11/9/15.

Accession Number: 20151109-5103.

Comments Due: 5 p.m. ET 11/30/15.

Docket Numbers: ER15-943-003.

Applicants: Midcontinent Independent System Operator, Inc.

Description: Compliance filing: 2015-11-09_SA 6502 Edwards SSR 2015 Agreement Compliance to be effective 1/1/2015.

Filed Date: 11/9/15.

Accession Number: 20151109-5122.

Comments Due: 5 p.m. ET 11/30/15.

Docket Numbers: ER16-293-000.

Applicants: Mesquite Solar 2, LLC.

Description: Baseline eTariff Filing: Mesquite Solar 2, LLC Certificate of Concurrence to be effective 11/20/2015.

Filed Date: 11/9/15.

Accession Number: 20151109-5073.

Comments Due: 5 p.m. ET 11/30/15.

Docket Numbers: ER16-294-000.

Applicants: Mesquite Solar 3, LLC.

Description: Baseline eTariff Filing: Mesquite Solar 3, LLC Certificate of Concurrence to be effective 11/20/2015.

Filed Date: 11/9/15.

Accession Number: 20151109-5074.

Comments Due: 5 p.m. ET 11/30/15.

Docket Numbers: ER16-295-000.

Applicants: Midcontinent Independent System Operator, Inc.

Description: § 205(d) Rate Filing: 2015-11-09_SA 1503 NSP-Mankato 2nd Rev. GIA (G261) to be effective 11/10/2015.

Filed Date: 11/9/15.

Accession Number: 20151109-5085.

Comments Due: 5 p.m. ET 11/30/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2015.
Nathaniel J. Davis, Sr.,
Deputy Secretary.

[FR Doc. 2015-29146 Filed 11-13-15; 8:45 am]

BILLING CODE 6717-01-P